DEPARTMENT OF DEFENSE

Department of the Army; Corps of Engineers

Environmental Impact Statement, Permit Under the Clean Water Act, and General Conformity Determination: Port of Los Angeles Channel Deepening Project, Los Angeles, CA

AGENCY: U.S. Army Corps of Engineers, DoD.

ACTION: Notice of Signing of the ROD and the Final GCD.

SUMMARY: The U.S. Army Corps of Engineers, Los Angeles District, Planning Division and Regulatory Division (Corps) have made a Final General Conformity Determination (GCD) and executed a Record of Decision (ROD) for the Final Supplemental Environmental Impact Statement/Supplemental Environmental Impact Report (SEIS/SEIR) and a ROD for Section 404 Permit under the Clean Water Act for the Port of Los Angeles Channel Deepening Project, Los Angeles, California.

This notice serves as the announcement of the signing of the Final SEIS/SEIR and Section 404 RODs, and the finalization of the GCD. The Records of Decision for the Final SEIS/SEIR and the Section 404 Permit were signed in September 2009.

DATES AND ADDRESSES: Copies of the Final General Conformity Determination document are available for your information at the following libraries for thirty (30) days from the date of publication of this notice.

1. L.A. Public Library, San Pedro Branch, 921 South Gaffey Street, San Pedro, California.

2. L.A. Public Library, Wilmington Branch, 1300 North Avalon, Wilmington, California.

3. L.A. Public Library, Central Branch, 630 West 5th Street, Los Angeles, California.

FOR FURTHER INFORMATION CONTACT: Questions or requests concerning the Final General Conformity Determination or the ROD should be directed to: Ms. Joy Jaiswal Chief, Ecosystem Planning Section, U.S. Army Corps of Engineers, P.O. Box 532711, Los Angeles, California 90053-2325, (213) 452-3851 or Dr. Aaron Allen, Chief, North Coast Branch, Regulatory Division, U.S. Army Corps of Engineers, 2151 Alessandro Drive, Suite 110, Ventura, California 93001, (805) 585-2148.

SUPPLEMENTARY INFORMATION: In April 2009, the Corps, in coordination with the Los Angeles Harbor Department (LAHD), completed and published a joint Final SEIS/SEIR, Draft GCD, and Section 404 Permit, pursuant to National Environmental Policy Act (NEPA), Section 404 of the Clean Water Act, Section 10 of the River and Harbor Act, and Section 103 of the Marine Protection, Research, and Sanctuaries Act for the Project. The Proposed Action is to complete the Channel Deepening Project by providing approximately 3.0 million cubic yards of additional disposal capacity for dredged material within the Port of Los Angeles and ocean disposal site at LA-2.

As a Federal agency, the Corps prepared the Final GCD in compliance with Section 176(c) of the Clean Air Act and for the issuance of a Corps Section 404 Permit for the dredging and disposal of material into waters of the U.S. Direct and indirect air emissions for all pollutants related to the Proposed Action are not below specified de minimis Federal thresholds (40 CFR 93.153(b)).

On September 3, 2009, the Corps completed its environmental review and finalized the GCD, executed the two RODs, and issued a Standard Individual Permit for the Federal action associated with the Project. The Corps considered and responded to all comments received in finalizing the SEIS/SEIR, Final GCD, RODs, and issuing the Corps permit. The public can request copies of the Final General Conformity Determination document or the RODs from the Corps at the address listed in the FOR FURTHER INFORMATION CONTACT section above.

Dated: October 6, 2009.
Thomas H. Magness,
Colonel, U.S. Army, District Commander.

[FR Doc. E9-24709 Filed 10-15-09; 8:45 am]

BILLING CODE 3710-KF-P